DEPARTMENT OF TRANSPORTATION

Federal Aviation Administration

RTCA Special Committee 188; Minimum Aviation System Performance Standards For High Frequency Data Link

Pursuant to section 10(a)(2) of the Federal Advisory Committee Act (Pub. L. 92-463, 5 U.S.C., Appendix 2), notice is hereby given for Special Committee 188 meeting to be held January 18, 2001, starting at 1 p.m. The meeting will be held at RTCA, Inc., 1140 Connecticut Avenue, NW., Suite 1020, Washington, DC 20036.

The agenda will include: (1) Welcome and Introduction of the New Chairman, SC-188; (2) Opening comments; (3) WG-1, High Frequency Data Link Minimum Operational Performance (MOPS), Status Report and Future Plans; (4) WG-2, High Frequency Data Link Minimum Aviation System Performance Standards (MASPS), (5) Review Action Items; (6) Date and Location of Next Meeting; (7) Other Business; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on December 18, 2000.
Janice L. Peters,
Designated Official.

[FR Doc. 00-32732 Filed 12-21-00; 8:45 am]

BILLING CODE 4910-13-M